DEPARTMENT OF TRANSPORTATION

National Highway Traffic Safety Administration

49 CFR Part 541

[Docket No. NHTSA-2015-0067]

Final Theft Data; Motor Vehicle Theft Prevention Standard

AGENCY: National Highway Traffic Safety Administration (NHTSA), Department of Transportation.

ACTION: Publication of 2013 final theft data.

SUMMARY: This document publishes the final data on thefts of model year (MY) 2013 passenger motor vehicles that occurred in calendar year (CY) 2013, including theft rates for existing passenger motor vehicle lines manufactured in model year (MY) 2013.

DATES: Effective date: November 23, 2015.

FOR FURTHER INFORMATION CONTACT: Ms. Deborah Mazyck, Office of International Policy, Fuel Economy and Consumer Programs, NHTSA, 1200 New Jersey Avenue SE., Washington, DC 20590. Ms. Mazyck's telephone number is (202) 366-4139. Her fax number is (202) 493-2990.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the section 33104(b)(4) mandate, this document reports the final theft data for CY 2013, the most recent calendar year for which data are available.

In calculating the 2013 theft rates, NHTSA followed the same procedures it used in calculating the MY 2012 theft rates. (For 2012 theft data calculations, see 79 FR 70115). As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2013 theft rate for each vehicle line was calculated by dividing the number of reported thefts of MY 2013 vehicles of that line stolen during calendar year 2013 by the total number of vehicles in that line manufactured for MY 2013, as reported to the Environmental Protection Agency (EPA).

The final 2013 theft data show a slight increase in the vehicle theft rate when compared to the theft rate experienced in CY/MY 2012. The final theft rate for MY 2013 passenger vehicles stolen in calendar year 2013 increased to 1.1562 thefts per thousand vehicles produced, an increase of 2.37 percent from the rate of 1.1294 thefts per thousand vehicles experienced by MY 2012 vehicles in CY 2012.

For MY 2013 vehicles, out of a total of 211 vehicle lines, ten lines had a theft rate higher than 3.5826 per thousand vehicles, the established median theft rate for MYs 1990/1991. (See 59 FR 12400, March 16, 1994). Of the ten vehicle lines with a theft rate higher than 3.5826, nine are passenger car lines, one is a multipurpose passenger vehicle line, and none are light-duty truck lines.

The overall trend using increments of five years show a marked decrease in passenger motor vehicle thefts over a 20-year (1993-2013) period. Specifically, the MY 2013 theft rate (1.16 thefts per thousand vehicles) is 70.85 percent lower than the CY/MY 1993 rate (3.98 thefts per thousand vehicles), 54.33 percent lower than the CY/MY 1998 rate (2.54 thefts per thousand vehicles), 36.96 percent lower than the CY/MY 2003 rate (1.84 thefts per thousand vehicles) and 31.36 percent lower than the CY/MY 2008 rate (1.69 thefts per thousand vehicles). Overall, as indicated by Figure 1, theft rates have continued to show a downward trend since CY/MY 1993, with periods of very moderate increases from one year to the next.

On Thursday, August 6, 2015, NHTSA published the preliminary theft rates for CY 2013 passenger motor vehicles in the Federal Register (80 FR 46930). The agency tentatively ranked each of the MY 2013 vehicle lines in descending order of theft rate. The public was requested to comment on the accuracy of the data and to provide final production figures for individual vehicle lines. As a result of the adjustments, some of the final theft rates and rankings of vehicle lines changed from those published in the August 2015 notice.

The agency received written comments from Volkswagen Group of America, Inc., informing the agency that the production volumes listed for the Audi A3 and the Audi A4/A5 was incorrect. In response to this comment, the production volume for the Audi A3 and the Audi A4/A5 have been corrected and the final theft data has been revised accordingly. As a result of the correction, the Audi A4/A5 previously ranked No. 22 with a theft rate of 2.4792 is now ranked No. 100 with a theft rate of 0.7510 and the Audi A3 previously ranked No. 178 with a theft rate of 0.1346 is now ranked No. 56 with a theft rate of 1.3444.

The following list represents NHTSA's final calculation of theft rates for all 2013 passenger motor vehicle lines. This list is intended to inform the public of calendar year 2013 motor vehicle thefts of model year 2013 vehicles and does not have any effect on the obligations of regulated parties under 49 U.S.C. Chapter 331, Theft Prevention.

BILLING CODE 4910-59-P

Issued in Washington, DC, under authority delegated in 49 CFR 1.95.
Raymond R. Posten,
Associate Administrator for Rulemaking.

[FR Doc. 2015-29701 Filed 11-20-15; 8:45 am]

BILLING CODE 4910-59-C